ENVIRONMENTAL PROTECTION AGENCY

[FRL-7548-8]

Notice of Availability: Draft Watershed-Based National Pollutant Discharge Elimination System (NPDES) Permitting Implementation Guidance

AGENCY: Environmental Protection Agency (EPA).

ACTION: Notice.

SUMMARY: This notice announces that the U.S. Environmental Protection Agency is publishing Draft Guidance On Watershed-Based National Pollutant Discharge Elimination System (NPDES) Permitting Implementation. EPA is making the draft guidance available to the public for a period of thirty days during which EPA seeks comments on the document. The purpose of this guidance is to describe the concept of and the process for watershed-based permitting under the NPDES permit program. Watershed-based NPDES permitting is an approach to developing NPDES permits for multiple point sources located within a defined geographic area (i.e., watershed boundaries). This approach, aimed at achieving new efficiencies and environmental results, provides a process for considering all stressors within a hydrologically defined drainage basin or other geographic area, rather than addressing individual pollutant sources on a discharge-by-discharge basis. As outlined in the guidance, EPA will continue to implement the NPDES program through its existing statutory and regulatory authorities. The guidance cannot impose legally binding requirements on EPA, States, Tribes, or the regulated community. It cannot substitute for Clean Water Act (CWA) requirements, EPA's regulations, or the obligations imposed by consent decrees or enforcement orders.

DATES: All public comments on the draft guidance must be received on or before September 24, 2003.

ADDRESSES: Comments should be addressed to Patrick Bradley, U.S. Environmental Protection Agency, EPA East Building (MC 4203M), 1200 Pennsylvania Avenue, NW., Washington, DC 20460. Commenters are also requested to submit an original and 3 copies of their written comments as well as an original and 3 copies of any attachments, enclosures, or other documents referenced in the comments. EPA will also accept comments electronically. Comments should be addressed to the following e-mail address: bradley.patrick@epa.gov. Electronic comments must be submitted as an ASCII, WordPerfect format file and avoid the use of special characters or any form of encryption.

Interested persons may obtain a copy of the guidance from the Water Permits Division's Web site (http://cfpub.epa.gov/npdes/wqbasedpermitting/wspermitting.cfm).

FOR FURTHER INFORMATION CONTACT: Patrick Bradley, Telephone: (202) 564-0729. Facsimile Number: (202) 564-6392. E-mail: bradley.patrick@epa.gov. Also visit the Water Permits Division's Web page at http://www.epa.gov/npdes.

SUPPLEMENTARY INFORMATION: For nearly a decade, the U.S. Environmental Protection Agency (EPA) has supported and encouraged a watershed approach to addressing water quality problems. Awareness and understanding of this approach has grown over time, but with demonstrated gaps in implementation. In fall 2002 the EPA Office of Water Assistant Administrator issued a policy memo entitled “Committing EPA's Water Program to Advancing the Watershed Approach.” This policy memo not only reaffirms EPA's commitment to the watershed approach but also reenergizes efforts to ensure that EPA as a whole fully integrates the approach into program implementation. The memo calls for the creation of a Watershed Management Council (WMC) that will, among other activities, accelerate efforts to develop and issue NPDES permits on a watershed basis.

Following the watershed approach policy memo, EPA's Assistant Administrator for Water released the “Watershed-Based NPDES Permitting Policy Statement.” This statement communicates EPA's policy on implementing NPDES permitting activities on a watershed basis, discusses the benefits of watershed-based permitting, presents an explanation of the process and several mechanisms to implement watershed-based permitting, and outlines how EPA will encourage watershed-based permitting. It serves as both a formal commitment and a strategy for fully integrating the watershed approach into the NPDES permitting program and accelerating these efforts, as called for in the watershed approach policy memo. Both the policy memo on advancing the watershed approach and the watershed-based permitting policy statement are available on EPA's Web page at http://cfpub.epa.gov/npdes/wqbasedpermitting/wspermitting.cfm.

Dated: August 14, 2003.
James Hanlon,
Director, Office of Wastewater Management.

[FR Doc. 03-21660 Filed 8-22-03; 8:45 am]

BILLING CODE 6560-50-P